DEPARTMENT OF COMMERCE

National Oceanic and Atmospheric Administration

RIN 0648-BC90

Marine Mammals; Notice of Availability of a Draft Environmental Impact Statement To Amend the Atlantic Large Whale Take Reduction Plan

AGENCY: National Marine Fisheries Service (NMFS), National Oceanic and Atmospheric Administration (NOAA), Commerce.

ACTION: Notice of Availability of a Draft Environmental Impact Statement; notice of public hearing meetings; request for comments.

SUMMARY: NMFS proposes to amend the regulations implementing the Atlantic Large Whale Take Reduction Plan (Plan). The proposed rule revises the management measures for reducing the incidental mortality and serious injury to the North Atlantic right whale (Eubalaena glacialis), humpback whale (Megaptera novaeangliae), and fin whale (Balaenoptera physalus) in commercial trap/pot and gillnet fisheries to meet the goals of the Marine Mammal Protection Act (MMPA) and the Endangered Species Act (ESA). A Draft Environmental Impact Statement (DEIS) was prepared in accordance with the National Environmental Policy Act (NEPA), to analyze impacts to the environment of the management alternatives under consideration. NMFS will hold 16 public hearings along the East coast in August and September for the purpose of answering questions and receiving public testimony on the DEIS.

DATES: The public hearings will be held in August and September. For specific dates, times, and locations see SUPPLEMENTARY INFORMATION section. The public comment period is from July 12, 2013, to September 13, 2013.

ADDRESSES: You may submit comments on this document, identified by 130201095-3095-01, by any of the following methods:

• Electronic Submission: Submit all electronic public comments via the Federal e-Rulemaking Portal. Go to www.regulations.gov/#!docketDetail;D=NOAA-NMFS-2013-0095 click the “Comment Now!” icon, complete the required fields, and enter or attach your comments.

• Mail: Submit written comments to Mary Colligan, Assistant Regional Administrator for Protected Resources, NMFS Northeast Region, 55 Great Republic Dr., Gloucester, MA 01930, Attn: Large Whale Proposed Rule.

• Fax: 978-281-9394 Attn: Large Whale Proposed Rule

• In-Person: Attend a public hearing. See SUPPLEMENTARY INFORMATION section for locations, dates, and times.

FOR FURTHER INFORMATION CONTACT: Kate Swails, NMFS, Northeast Region, 978-282-8481, Kate.Swails@noaa.gov; Kristy Long, NMFS Office of Protected Resources, 301-427-8440, Kristy.Long@noaa.gov; or Barb Zoodsma, NMFS Southeast Region, 904-321-2806, Barb.Zoodsma@noaa.gov.

SUPPLEMENTARY INFORMATION:

Background

Large whale entanglements resulting in serious injuries and mortalities are still occurring; therefore, NMFS believes modifications to the Plan are needed to meet the goals of the Marine Mammal Protection Act (MMPA). Under the MMPA, NMFS is required to reduce the incidental mortality and serious injury to three strategic large whale stocks—the Western Stock of the North Atlantic right whales (Eubalaena glacialis), the Gulf of Maine stock of humpback whales (Megaptera novaeangliea), and the Western North Atlantic stock of fin whales (Balaenoptera physalus)—incidentally taken in commercial fisheries to below the Potential Biological Removal (PBR) level for each stock.

Atlantic Large Whale Take Reduction Team (Team)

At its 2009 meeting, the Team agreed on a schedule to develop a management approach to reduce the risk of serious injury and mortality due to vertical line. As a result of this schedule NMFS committed to publishing a final rule to address vertical line entanglement by 2014. The approach for the vertical line rule will focus on reducing the risk of vertical line entanglements in high impact areas versus a wide-broad scale management scheme. Using fishing gear survey data and whale sightings per unit effort (SPUE), a model was developed to determine the co-occurrence of fishing gear density and whale density.

The Team's Northeast Subgroup met in November 2010 and the Mid-Atlantic/Southeast Subgroup met in April 2011 to review the model and consider its implications for an overall management strategy to address vertical line entanglements.

The Team agreed NMFS should use the model to consider and develop possible options to address fishery interactions with large whales by reducing the potential for entanglements, minimize adverse effects if entanglements occur, and mitigate the effects of any unavoidable entanglements.

To solicit additional stakeholder involvement, on June 14, 2011, NMFS published a Notice of Intent in the Federal Register (76 FR 34654) to announce the agency's intent to prepare an Environmental Impact Statement that would analyze the impacts of alternatives for amending the Plan. In July and August 2011, NMFS held 15 scoping meetings to solicit feedback on the vertical line risk reduction strategy. The information provided at the scoping meetings was also reviewed at a full Team meeting in January 2012. Team members further refined their vertical line risk reduction proposals and the team met via teleconference in February 2012 to review the final proposals submitted. The Team reviewed five proposals: three from state agencies, one from the scientist/academic community, and one from the conservation community. Results of the proposals were presented via teleconference in April 2012. Each vertical line risk reduction proposal was analyzed to assess its impact on both the number of vertical lines and co-occurrence scores relative to the baseline in the Northeast and coastwide.

NMFS designed the proposed alternatives in the DEIS based on comments received during public scoping and using many of the measures submitted by the team in their stakeholder proposals. The alternatives include measures requiring increased traps per trawl, the use of weaker weak links and/or vertical lines of lower breaking strength, and potential time-area closures.

Several of the background documents for the Plan and the take reduction planning process can be downloaded from the Plan Web site at http://www.nero.noaa.gov/whaletrp/. Copies of the DEIS/Regulatory Impact Review for this action can also be obtained online. NMFS has scheduled public hearings on the DEIS. The purpose of the hearings is to provide the public the opportunity to ask questions and provide comments on the upcoming action.

Hearing Dates, Times, and Locations

The dates, times, and locations of the meetings are scheduled as follows:

1. Monday, August 5, 2013—Machias, ME 6-9 p.m.

University of Maine at Machias (Science Building), 116 O'Brien Avenue, Machias, ME 04654

2. Tuesday, August 6, 2013—Ellsworth, ME 6-9 p.m.

Ellsworth Public Library, 20 State Street, Ellsworth, Maine 04605

3. Wednesday, August 7, 2013—Rockland, ME 6-9 p.m.

Oceanside East High School (Auditorium), 400 Broadway, Rockland, ME 04841

4. Thursday, August 8, 2013—Portland, ME 6-9 p.m.

Portland City Hall (State of Maine Room), 389 Congress St., Portland, ME 04101

5. Tuesday, August 13, 2013—Chatham, MA 6-9 p.m.

Chatham Community Center (Large Meeting Room), 702 Main St., Chatham, MA 02633

6. Wednesday August 14, 2013—Plymouth, MA 6-9 p.m.

Plymouth Public Library, 132 South St., Plymouth, MA 02360

7. Thursday, August 15, 2013—Narrangansett, RI 6-9 p.m.

URI Campus, Coastal Institute Building (large conference room), 215 South Ferry Road, Narrangansett, RI 02882

8. Monday August 19, 2013—Gloucester, MA 6-9 p.m.

NOAA Northeast Regional Office (Hearing Room A&B), 55 Great Republic Dr., Gloucester, MA 01930

9. Tuesday, August 20, 2013—Portsmouth, NH 5-8 p.m.

Urban Forestry Center 27, Elwyn Road, Portsmouth, NH 03801

10. Monday, August 26, 2013—Wilmington, NC 5:30-7:30 p.m.

New Hanover County Public Library-Main Library (Masonboro Rm), 201 Chestnut St., Wilmington, NC 28401

11. Tuesday, August 27, 2013—Virginia Beach, VA 6-9 p.m.

Meyera E. Obendorf Central Library (Auditorium), 4100 Virginia Beach Blvd., Virginia Beach, VA 23452

12. Wednesday, August 28, 2013—Manahawkin, NJ 6-9 p.m.

Stafford Township (Court room), 260 E. Bay Ave., Manahawkin, NJ 08050

13. Monday September 9, 2013—Ormond Beach, FL 4:30-6:30 p.m.

Ormond Beach Public Library, 30 S. Beach St., Ormond Beach, FL 32174

14. Tuesday September 10, 2013—Jacksonville, FL 5-7 p.m.

Jacksonville Port Authority (Board Room), 2831 Talleyrand Avenue, Jacksonville, FL 32206

15. Wednesday September 11, 2013—Brunswick, GA 5-7 p.m.

Georgia Department of Natural Resources (Classroom), 1 Conservation Way, Brunswick, GA 31520

16. Thursday September 12, 2013—Charleston, SC 5-7 p.m.

South Carolina Department of Natural Resources, Marine Resources Research Institute (Auditorium), 217 Ft. Johnson Rd., Charleston, SC 29412

Special Accommodations

These meetings are physically accessible to people with disabilities. Request for sign language interpretation or other auxiliary aids should be directed to Kate Swails (978) 282-8481 at least 7 working days prior to the hearing date.

Authority: 16 U.S.C. 1361 et seq.

Dated: July 18, 2013.
Helen M. Golde,
Deputy Director, Office of Protected Resources, National Marine Fisheries Service.

[FR Doc. 2013-17737 Filed 7-23-13; 8:45 am]

BILLING CODE 3510-22-P